DEPARTMENT OF AGRICULTURE

Forest Service

Fremont and Winema Resource Advisory Committee

AGENCY: Forest Service, USDA.

ACTION: Notice of meeting/field tour.

SUMMARY: The Fremont and Winema Resource Advisory Committee will meet in Bly, Oregon and travel to various project sites along the North Fork of the Sprague River, for the purpose of monitoring and viewing active and completed Title II watershed restoration projects. The committee operates in compliance with the Federal Advisory Committee Act, under the provisions of Title II of the Secure Rural Schools and Community Self-Determination Act (Pub. L. 110-343) of 2000 (reauthorized in 2008).

DATES: The tour will be held on Oct 6, 2011 9 a.m.-14 p.m.

ADDRESS: The tour will commence from Bly, OR onto the Fremont-Winema Forest and along the North Fork of the Sprague River including a private ranch. Send written comments to Fremont and Winema Resource Advisory Committee, c/o USDA Forest Service, Klamath Ranger District, 2819 Dahlia, Suite A, Klamath Falls, Oregon or electronically to agowan@fs.fed.us.

FOR FURTHER INFORMATION CONTACT: Amy Gowan, Designated Federal Official, c/o Klamath Ranger District, 2819 Dahlia, Suite A, Klamath Falls, Oregon, telephone (541) 883-6741 or Lucinda Nolan RAC Coordinator 1301 South G Street, Lakeview, Oregon 97630, telephone (541) 947-6277.

SUPPLEMENTARY INFORMATION: There will be an information packet available the day of the tour. It will include an agenda, a map depicting the location of projects to be monitored, original Title II project proposals and associated project status reports. All Fremont and Winema Resource Advisory Committee Meetings are open to the public. Interested citizens are encouraged to attend, however they will need to provide their own transportation.

Dated: September 7, 2011.
Amy Gowan,
Designated Federal Official.

[FR Doc. 2011-23477 Filed 9-13-11; 8:45 am]

BILLING CODE 3410-11-P